DEPARTMENT OF COMMERCE

International Trade Administration

Export Trade Certificate of Review

ACTION: Notice of Application to Amend an Export Trade Certificate of Review.

SUMMARY: The Office of Export Trading Company Affairs, International Trade Administration, U.S. Department of Commerce, has received an application to amend an Export Trade Certificate of Review (“ACertificate”). This notice summarizes the proposed amendment and requests comments relevant to whether the Certificate should be issued.

FOR FURTHER INFORMATION CONTACT: Jeffrey C. Anspacher, Director, Office of Export Trading Company Affairs, International Trade Administration, (202) 482-5131 (this is not a toll-free number) or by E-mail at oetca@ita.doc.gov.

SUPPLEMENTARY INFORMATION: Title III of the Export Trading Company Act of 1982 (15 U.S.C. 4001-21) authorizes the Secretary of Commerce to issue Export Trade Certificates of Review. An Export Trade Certificate of Review protects the holder and the members identified in the Certificate from state and federal government antitrust actions and from private, treble damage antitrust actions for the export conduct specified in the Certificate and carried out in compliance with its terms and conditions. Section 302(b)(1) of the Export Trading Company Act of 1982 and 15 CFR 325.6(a) require the Secretary to publish a notice in the Federal Register identifying the applicant and summarizing its proposed export conduct.

Request for Public Comments

Interested parties may submit written comments relevant to the determination whether an amended Certificate should be issued. If the comments include any privileged or confidential business information, it must be clearly marked and a nonconfidential version of the comments (identified as such) should be included. Any comments not marked privileged or confidential business information will be deemed to be nonconfidential. An original and five (5) copies, plus two (2) copies of the nonconfidential version, should be submitted no later than 20 days after the date of this notice to: Office of Export Trading Company Affairs, International Trade Administration, U.S. Department of Commerce, Room 1104H, Washington, DC 20230, or transmit by E-mail at oetca@ita.doc.gov. Information submitted by any person is exempt from disclosure under the Freedom of Information Act (5 U.S.C. 552). However, nonconfidential versions of the comments will be made available to the applicant if necessary for determining whether or not to issue the Certificate. Comments should refer to this application as “Export Trade Certificate of Review, application number 97-6A003.”

The Association for the Administration of Rice Quotas, Inc.'s original Certificate was issued on January 21, 1998 (63 FR 4220, January 28, 1998), and previously amended on June 4, 1998 (63 FR 31738, June 10, 1998); September 25, 1998 (63 FR 53013, October 2, 1998); June 1, 2000 (65 FR 36410, June 8, 2000); April 5, 2001 (66 FR 21368, April 30, 2001); and February 5, 2002 (67 FR 7357, February 19, 2002). A summary of the current application for an amendment follows.

Summary of the Application

Applicant: Association for the Administration of Rice Quotas, Inc. (AARQ), c/o David Van Oss of Riviana Foods Inc., 2777 Allen Parkway, Houston, Texas 77019.

Contact: M. Jean Anderson, Esq., Counsel to Applicant, Telephone: (202) 682-7217.

Application No.: 97-6A003.

Date Deemed Submitted: November 19, 2002.

Proposed Amendment: AARQ seeks to amend its Certificate to:

1. Add each of the following companies as a new “Member” of the Certificate within the meaning of section 325.2(l) of the Regulations (15 C.F.R. § 325.2(l) (2002)): JIT Products, Inc., Davis, California; Nidera, Inc., Stamford, Connecticut (a subsidiary of Nidera Handelscompagnie BV (Netherlands)); and Sunshine Rice, Inc., Stockton, California (a subsidiary of Sunshine Business Enterprises, Inc.).

2. Delete the following companies as Members of the Certificate: Glencore Ltd., Stamford, Connecticut (a subsidiary of Glencore International AG), for the activities of Glencore Grain Division; and Liberty Rice Mill, Inc., Kaplan, Louisiana.

3. Change the listing of the following Members: “CAL PAC Investments, LLC dba California Pacific Rice Milling, Woodland, California” should be amended to read “Gold River Mills, LLC dba California Pacific Rice Milling, Woodland, California;” “Incomar Texas Ltd., and its subsidiary, Gulf Rice Arkansas, LLC, Houston, Texas” should be amended to read “Gulf Rice Arkansas, LLC (subsidiary of Ansera Marketing, Inc.), Houston, Texas;” “PS International, Ltd., Durham, North Carolina” should be amended to read “PS International, Ltd., Chapel Hill, North Carolina;” “Texana Rice, Inc., Houston, Texas” should be amended to read “Texana Rice Inc., Louise, Texas;” “The Connell Company, Berkeley Heights, New Jersey” should be amended to read “The Connell Company for the activities of itself, its subsidiary, Connell (Taiwan) Ltd., and its two divisions, Connell Rice & Sugar Co. and Connell International Company, Berkeley Heights, New Jersey;” and “Uncle Ben's, Inc., Houston, Texas” should be amended to read “Uncle Ben's Inc., Greenville, Mississippi.”

Dated: November 25, 2002.
Jeffrey C. Anspacher,
Director, Office of Export Trading, Company Affairs.

[FR Doc. 02-30415 Filed 11-29-02; 8:45 am]

BILLING CODE 3510-DR-P